DEPARTMENT OF DEFENSE

Department of the Army

Availability for Non-Exclusive, Exclusive, or Partially Exclusive Licensing of U.S. Provisional Patent Application Concerning 2-Guanidinylimidazolinedione Compounds and Methods of Making and Using Thereof

AGENCY: Department of the Army, DoD.

ACTION: Notice.

SUMMARY: In accordance with 37 CFR 404.6 and 404.7, announcement is made of the availability for licensing of U.S. Provisional Patent Application No. 60/523,670 entitled “2-Guanidinylimidazolinedione Compounds and Methods of Making and Using Thereof,” filed November 21, 2003. The United States Government, as represented by the Secretary of the Army, has rights in this invention.

ADDRESSES: Commander, U.S. Army Medical Research and Materiel Command, ATTN: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: The present invention relates to 2-guanidinylimidazolinedione compounds, methods of making and purifying 2-guanidinylimidazolinedione compounds, and methods of using the 2-guanidinylimidazolinedione compounds to prevent, treat, or inhibit malaria in a subject.

Luz D. Ortiz,
Army Federal Register Liaison Officer.

[FR Doc. 04-4380 Filed 2-26-04; 8:45 am]

BILLING CODE 3710-08-M